DEPARTMENT OF TRANSPORTATION

National Highway Traffic Safety Administration

[Docket No. NHTSA—2016-0042]

Request for Information

AGENCY: National Highway Traffic Safety Administration (NHTSA), Department of Transportation (DOT).

ACTION: Request for information.

SUMMARY: Section 24105 of the Fixing America's Surface Transportation (FAST) Act, Public Law 114-94 (2015), requires NHTSA to implement a two-year pilot program to evaluate the feasibility and effectiveness of a State process for informing consumers of open motor vehicle recalls at the time of motor vehicle registration. This notice requests information from interested parties to help inform the agency's approach as it moves forward to implement the pilot program.

DATES: Written comments should be submitted by: May 16, 2016.

ADDRESSES: Written comments may be submitted using any one of the following methods:

• Mail: Docket Management Facility, M-30, U.S. Department of Transportation, West Building, Ground Floor, Rm. W12-140, 1200 New Jersey Avenue SE., Washington, DC 20590.

• Fax: Written comments may be faxed to (202) 493-2251.

• Internet: To submit comments electronically, go to the Federal regulations Web site at http://www.regulations.gov. Follow the online instructions for submitting comments.

• Hand Delivery: West Building Ground Floor, Room W12-140, 1200 New Jersey Avenue SE., between 9 a.m. and 5 p.m. Eastern Time, Monday through Friday, except Federal holidays.

Instructions: All comments submitted in relation to this notice must include the agency name and docket number. Please note that all comments received will be posted without change to http://www.regulations.gov, including any personal information provided. You may also call the Docket at 202-366-9324.

FOR FURTHER INFORMATION CONTACT: Andrew DiMarsico, Office of Chief Counsel, NHTSA (phone: 202-366-5263). You may send email to Mr. DiMarsico at Andrew.dimarsico@dot.gov, or by regular mail at the Office of Chief Counsel, National Highway Traffic Safety Administration, W41-326, 1200 New Jersey Avenue SE., Washington, DC 20590.

SUPPLEMENTARY INFORMATION: This notice requests information to assist NHTSA in implementing a pilot grant program required under the FAST Act. See Public Law 114-94, § 24105 (2015). The FAST Act requires that, by October 1, 2016, NHTSA must implement a two-year pilot program with up to six States to evaluate the feasibility and effectiveness of a State process for informing consumers of open motor vehicle recalls at the time of motor vehicle registration. NHTSA plans to solicit grant applications following the receipt and consideration of comments and information submitted in response to this notice.

Background

The National Traffic and Motor Vehicle Safety Act, 49 U.S.C. 30101 et. seq. as amended, requires that a motor vehicle manufacturer notify the owners and purchasers of its vehicles of a safety-related defect or that the vehicle does not comply with an applicable Federal motor vehicle safety standard. 49 U.S.C. 30118. A vehicle manufacturer must provide notice of a recall in a manner prescribed through regulation by NHTSA to each person registered under State law as the owner and whose name and address are reasonably ascertainable by the manufacturer through State records or other available source or (if a registered owner is not notified through State registration information) to the most recent purchaser known to the manufacturer. 49 U.S.C. 30119(d). In order to identify owners of vehicles subject to a safety-related recall and provide notification to them, a motor vehicle manufacturer typically contracts with a third party that obtains vehicle registration data for the affected vehicles from State motor vehicle administrations. The motor vehicle manufacturer then notifies owners and purchasers, typically by U.S. Mail, about the safety recall and, among other things, about how to obtain a remedy to fix the defect. See 49 U.S.C. 30119(d); 49 CFR part 577.

NHTSA and the motor vehicle industry have sought to improve notice of safety-related defects to owners and to develop ways to increase the rate at which owners complete the remedy identified in the notice.¹ Section 24105 of the recently enacted FAST Act provides for the two-year pilot program to evaluate the feasibility and effectiveness of a State process for informing consumers of open motor vehicle recalls at the time of motor vehicle registration in the State. To carry out this program, the FAST Act permits NHTSA to make a grant to up to six States. To be eligible for a grant, the Act requires a State to: (i) Submit an application in such form and manner as the Secretary prescribes; (ii) agree to notify, at the time of registration, each owner or lessee of a motor vehicle presented for registration in the State of any open recall on that vehicle; (iii) provide the open motor vehicle recall information at no cost to each owner or lessee of a motor vehicle presented for registration in the State; and (iv) provide such other information as the Secretary may require.

¹ In April 2015, NHTSA hosted a workshop called “Retooling Recalls” to explore ways to increase recall remedy completion rates. See http://www.nhtsa.gov/About+NHTSA/Press+Releases/2015/nhtsa-retooling-recalls-workshop-04282015. Recently, the agency published an ANPRM requesting public comment on, among other things, additional ways by which manufacturers could not only notify owners, but also influence owners to have recalls completed. See 81 FR 81 FR 4007 (January 25, 2016).

In considering a State for a grant under this provision, the FAST Act requires NHTSA to consider the State's methodology for determining open recalls on a motor vehicle, for informing consumers of the open recalls, and for determining performance. Following the two-year performance period, the FAST Act requires that the State grantee provide to NHTSA a report of performance containing information necessary to evaluate the extent to which open recalls have been remedied. Within six months after the completion of the pilot program, the FAST Act requires NHTSA to evaluate the extent to which identified open recalls have been remedied.

Request for Information

The agency is interested in information that would be helpful in implementing a successful pilot grant. This includes information about, among other things: A State's process for registering motor vehicles; the application(s) in use by the States to facilitate its access to open recall data and to notify consumers; how a notice to consumers should be provided to raise awareness of the open recall; performance criteria; and the estimated costs for a State to fulfill the pilot program requirements. Because the FAST Act requires NHTSA to consider a State's methodology for determining performance, the agency is interested in comments from parties on how to determine such performance, including ways to measure whether a consumer had a defect remedied following notification of an open recall, and metrics for comparing pre-pilot and post-pilot performance. The agency is also interested in hearing from States, based upon the current status of their vehicle registration systems, about the requirements and challenges to adapt their systems to conduct the pilot program. And, because Congress requires NHTSA to evaluate the pilot program, we seek information and suggestions about how to ensure a successful assessment.

In addition to the topics discussed above, we seek information related to the questions posed below. This list is not exhaustive, and we encourage commenters to provide any further information they believe is relevant to inform the agency as it seeks to implement a successful pilot program. While the agency welcomes all comments, we do not envision the use of NHTSA's VIN look-up tool as a source of information for the pilot program. The VIN look-up tool was created for consumers. An increase in the demand on NHTSA's VIN look-up tool from a large enterprise submitting numerous queries could compromise its performance for its intended purpose.

Registration Process

• How often do States require a vehicle to be registered?

• What mechanisms exist for an owner to register a vehicle with the State? In-person, On-line? Mail-in?

• What other conditions or requirements exist in connection with the registration process in a State (e.g. vehicle emissions or safety inspection)?

• If additional conditions or requirements exist, how are they linked to the vehicle registration process? Would the systems that link to the vehicle registration process be available for the pilot program? What modifications might be required?

Notice to the Consumer

• What sources of information about an open safety recall are available to a State?

• What form should notice of an open recall take and what flexibilities should considered in the event a State allows multiple methods for registration?

• At what point in the registration process should a State provide notice of an open recall?

• What information about an open recall should a State provide?

Registration System Functionality

• Do State registration systems have the capability to:

○ Communicate with a third-party system? If so, what third-party system does the State use, and can it be used for the pilot program. What modifications might be required?

○ Provide real time notice of an open recall?

○ Track that notice was provided?

○ Query or track that a recall was completed on a vehicle?

Written comments may be submitted through any of the methods discussed above.

This notice is for information purposes only. The agency will review and consider information provided in response to this notice as it implements the pilot grant program, but will not separately respond to comments.

Authority: S. 24105, Pub. L. 114-94, 129 Stat. 1312.

Issued in Washington, DC on April 12, 2016 under authority delegated in 49 CFR part 1.95.
Paul A. Hemmersbaugh,
Chief Counsel.

[FR Doc. 2016-08831 Filed 4-14-16; 8:45 am]

BILLING CODE 4910-59-P